Title 3—

The President

Proclamation 9742 of May 4, 2018

National Charter Schools Week, 2018

By the President of the United States of America

A Proclamation

The first public charter school opened its doors in Saint Paul, Minnesota, 26 years ago. Wanting to offer families more high-quality education options, it was founded to promote accountability and innovation, and to advance academic achievement. Now, 44 States, the District of Columbia, and Puerto Rico have passed laws authorizing the creation of charter schools, which are responsible for educating millions of students nationwide. During National Charter Schools Week, we celebrate the more than 7,000 charter schools across our country, their teachers and administrators, and the students they serve.

My Administration has prioritized support for charter schools so that more students have access to this valuable academic option. In my fiscal year 2019 budget request, I called on the Congress to increase funding for the Federal Charter Schools Program to $500 million. This program strengthens State and local efforts to create and expand charter schools to help meet the growing demand for this educational option and increase charter schools' access to high-quality facilities.

Each child is blessed with unique talents and learns in different ways. Charter schools enhance educational options for families and empower teachers to explore innovative programs, alternative curricula, and creative approaches to education to ensure that they meet their students' individual needs. Charter schools provide educators the flexibility to equip students with knowledge and skills that give them the opportunity to achieve their academic goals and pursue successful careers.

This week, we acknowledge the critical role charter schools play in providing students with rigorous education that holds them to high standards. A great education is the foundation for a better future for students facing the demands and challenges of the 21st century. As a Nation, we should continue to support and address their dreams in their innovative efforts to help students reach their full potential.

NOW, THEREFORE, I, DONALD J. TRUMP, President of the United States of America, by virtue of the authority vested in me by the Constitution and the laws of the United States, do hereby proclaim May 6 through May 12, 2018, as National Charter Schools Week. I commend our Nation's successful public charter schools, teachers, and administrators, and I call on States and communities to help students and empower parents and families by supporting high-quality charter schools as an important school choice option.

IN WITNESS WHEREOF, I have hereunto set my hand this fourth day of May, in the year of our Lord two thousand eighteen, and of the Independence of the United States of America the two hundred and forty-second.

[FR Doc. 2018-10275

Filed 5-10-18; 11:15 am]

Billing code 3295-F8-P